DEPARTMENT OF TRANSPORTATION

Federal Railroad Administration

[Docket No. FRA-2024-0012]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Request (ICR) summarized below to the Office of Management and Budget (OMB) for review and comment. The ICR describes the information collection and its expected burden. On July 9, 2024, FRA published a notice providing a 60-day period for public comment on the ICR. FRA received no comments in response to the notice.

DATES: Interested persons are invited to submit comments on or before October 17, 2024.

ADDRESSES: Written comments and recommendations for the proposed ICR should be sent within 30 days of publication of this notice through www.reginfo.gov/public/do/PRAMain. Find the particular ICR by selecting “Currently under Review—Open for Public Comments” or by using the search function.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On July 9, 2024, FRA published a 60-day notice in the Federal Register soliciting public comment on the ICR for which it is now seeking OMB approval. See 89 FR 56474. FRA has received no comments related to the proposed collection of information.

Before OMB decides whether to approve this proposed collection of information, it must provide 30 days' notice for public comment. Federal law requires OMB to approve or disapprove paperwork packages between 30 and 60 days after the 30-day notice is published. 44 U.S.C. 3507(b)-(c); 5 CFR 1320.12(d); see also 60 FR 44978, 44983, Aug. 29, 1995. The 30-day notice informs the regulated community of its opportunity to file relevant comments and affords the agency adequate time to consider public comments before it renders a decision. 60 FR 44983, Aug. 29, 1995. Therefore, each respondent should submit their comment to OMB within 30 days of publication to best ensure having their full effect.

Comments are invited on the following ICR regarding: (1) whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summary below describes the ICR that FRA will submit for OMB clearance as the PRA requires:

Title: Brake System Safety Standards for Freight and Other Non-Passenger Trains and Equipment.¹

¹ In this 30-day notice, FRA has made a correction to the title of the information collection document. In the published 60-day notice, 89 FR 56474, the title is shown as Inspection Brake Safety Standards for Freight and Other Non-Passenger Trains and equipment (Power Brakes). FRA has corrected the title in this 30-day notice to reflect the currently approved title in the OMB inventory as Brake System Standards for Freight and Other Non-Passenger Trains and Equipment.

OMB Control Number: 2130-0008.

Abstract: Title 49 CFR part 232 prescribes Federal safety standards for freight and other non-passenger train brake systems and equipment. Part 232 contains recordkeeping and information reporting requirements, including requirements relating to the following:

General (subpart A)—procedures for special approvals of alternative standards or test procedures and waivers, and procedures related to the movement of equipment with defective brakes.

General requirements (subpart B)—generally applicable system requirements for the operation of brake systems on complete trains, including braking systems, locomotive brakes, dynamic braking, train handling, and unattended equipment securement.

Inspection and testing requirements (subpart C)—various airbrake test requirements for specific train operating scenarios, including initial terminal tests, intermediate inspections, continuity tests, and extended haul trains. This subpart also has specific rules regarding the use of yard air for conducting the above tests in lieu of locomotives and the use of independent locomotives in double-heading and helper service.

Periodic maintenance and testing requirements (subpart D)—yearly and other periodic testing of individual equipment. This subpart also specifies the equipment and procedures necessary to modify the instructions used to perform these tests.

End-of-train (EOT) devices (subpart E)—design and performance standards of both one-way and two-way EOT devices used on all trains with air brakes. This subpart also includes the inspection and testing requirements for EOT devices.

Introduction of new brake system technology (subpart F)—approval procedures for the introduction of new technologies not already covered by existing regulations, and requirements for the development of a pre-revenue service acceptance testing plan.

Electronically controlled pneumatic (ECP) braking systems (subpart G)—alternate standards for the operation and maintenance of ECP brake systems, particularly where the ECP system is not harmonious with previous standards. This includes interoperability, training, inspection and testing, movement of defective equipment, and periodic maintenance.

Tourist, scenic, historic, and excursion operations (T&H) braking systems (subpart H)—regulations that apply specifically to T&H railroads. Those regulations are the same as existed in 2001,² as stated in current 49 CFR 232.1(c).

² In 2001, appendix B to part 232 was created to preserve part 232 as it existed prior to a 2001 final rule. In 2020, appendix B was moved, with some revisions, to a new subpart H. See 85 FR 80544, Dec. 11, 2020.

Overall, the information collection requirements of part 232 serve two important safety purposes. First, the regulations allow FRA to monitor compliance with braking system safety regulations. Second, FRA refers to records regularly maintained under part 232 to assess the effectiveness of the regulations and identify opportunities for improvement.

Type of Request: Extension without change (with changes in estimates) of a currently approved information collection.

Affected Public: Railroads, Association of American Railroads (AAR), and manufacturers.

Form(s): N/A.

Respondent Universe: 784 Railroads.

Frequency of Submission: On occasion.

Total Estimated Annual Responses: 4,947,392.

Total Estimated Annual Burden: 324,638 hours.

Total Estimated Annual Burden Hour Dollar Cost Equivalent: $27,896,141.

FRA informs all interested parties that it may not conduct or sponsor, and a respondent is not required to respond to, a collection of information that does not display a currently valid OMB control number.

Authority: 44 U.S.C. 3501-3520.

Christopher S. Van Nostrand,
Deputy Chief Counsel.

[FR Doc. 2024-21125 Filed 9-16-24; 8:45 am]

BILLING CODE 4910-06-P